DEPARTMENT OF DEFENSE

48 CFR Parts 208 and 216

Training Supporting Implementation of Section 803 of the National Defense Authorization Act for Fiscal Year 2002, Competition Requirements for Purchase of Services Under Multiple Award Contracts

AGENCY: Department of Defense (DoD).

ACTION: Notice of training opportunities.

SUMMARY: The Director, Defense Procurement, is sponsoring two training sessions to support implementation of the Defense Federal Acquisition Regulation Supplement final rule published in the Federal Register on October 25, 2002, under DFARS Case 2001-D017, Competition Requirements for Purchase of Services Under Multiple Award Contracts.

DATES: Training will be conducted on October 31, 2002, and on November 12, 2002, from 1-3 p.m.

ADDRESSES: Training will be conducted in the Crystal City area of Arlington, VA, in Room C-43, Crystal Mall 4, 1941 Jefferson Davis Highway, Arlington, VA 22202. The room is located on the Underground/Tunnel level and is accessible from the Metro.

FOR FURTHER INFORMATION CONTACT: For information regarding registration for the training sessions or other training issues, contact Ms. Melissa Rider, Procurement Analyst, at melissa.rider@osd.mil or (703) 614-3883. For information regarding final rule content, contact the case manager, Ms. Susan Schneider, at (703) 602-0326.

SUPPLEMENTARY INFORMATION: DoD contracting personnel and personnel who develop requirements for service task orders under multiple award vehicles (including Federal Supply Service multiple award schedules), civilian agency personnel who fulfill DoD requirements under the Economy Act, and representatives of companies that have been awarded a multiple award contract for services should attend the training. Civilian agencies must follow the new DoD procedures if they acquire services on behalf of DoD under multiple award contracts or schedules. Attendance at the training sessions is limited to 60 per session. For those who are unable to attend the training sessions, briefings, including briefer notes, have been posted to the Defense Procurement Web site at http://­www.acq.osd.mil/dp under the special interest drop down box/Section 803.

Michele P. Peterson,
Executive Editor, Defense Acquisition Regulations Council.

[FR Doc. 02-27348 Filed 10-25-02; 8:45 am]

BILLING CODE 5001-08-P